DEPARTMENT OF THE INTERIOR

National Park Service

National Register of Historic Places; Notification of Pending Nominations and Related Actions

Nominations for the following properties being considered for listing or related actions in the National Register were received by the National Park Service before March 29, 2008. Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by May 1, 2008.

J. Paul Loether,
Chief, National Register of Historic Places/National Historic Landmarks Program.

CALIFORNIA

Los Angeles County

Grey, Zane, House on Catalina Island, 199 Chimes Tower Rd., Avalon, 08000371

HAWAII

Honolulu County

Kaumakapili Church, 766 N. King St., Honolulu, 08000372

Tantalus—Round Top Road, Tantalus Dr., Round Top Dr., Honolulu, 08000373

IOWA

Fayette County

Elgin Block, The, 225-231 Center St., Elgin, 08000374

MISSOURI

Boone County

Downtown Columbia Historic District (Boundary Increase), (Downtown Columbia, Missouri MPS) 1019, 1020, 1023 & 1025-33 E. Walnut St., Columbia, 08000375

Lewis County

Hipkins, Joseph, House, (La Grange, Missouri MPS) 500 S. 3rd St., La Grange, 08000376

St. Louis Independent city

Franke Motor Company Building, (Auto-Related Resources of St. Louis, Missouri MPS) 1395-7 Hamilton Ave., St. Louis (Independent City), 08000377

NORTH CAROLINA

Catawba County

Harris Arcade, 221-229 1st Ave. NW., Hickory, 08000378

Forsyth County

Centerville Historic District, Roughly bounded by Waughtown, Vargrave, Haled & Chapel Sts., Winston-Salem, 08000379

Sunnyside—Central Terrace Historic District, Roughly bounded by Haled, Junia, Monmouth, Glendale, Goldfloss, Brookline & Main Sts., Winston-Salem, 08000380

Mecklenburg County

Alexander, Neal Somers, House, (Rural Mecklenburg County MPS) 5014 N. Sharon Amity Rd., Charlotte, 08000381

New Hanover County

Gabriel's Landing, 1005 Airlie Rd., Wilmington, 08000382

UTAH

Carbon County

Price Main Street, 100 W. to approx. 215 E. Main St., Price, 08000383

Sanpete County

Manti Motor Company Building, 87 N. Main St., Manti, 08000384

Utah County

Timpanogos Cooperative Marketing Association Building, (Orem, Utah MPS) 380 S. Orem Blvd., Orem, 08000385

VERMONT

Windham County

Corse—Shippee House, 11 Dorr Fitch Rd., Dover, 08000386

VIRGINIA

Gloucester County

Quest End, 5488 & 5476 Roanes Wharf Rd., Selden, 08000387

Halifax County

Evans, E.L., House, 1204 Washington Ave., South Boston, 08000388

Lunenburg County

Bechelbronn, 1223 Rubermont Rd., Victoria, 08000389

Middlesex County

Sandwich, 131 Virginia St., Urbanna, 08000390

Newport News Independent city

Endview Plantation, 362 Yorktown Rd., Newport News (Independent City), 08000391

WEST VIRGINIA

Barbour County

Laurel Hill Battlefield—Union Fortifications—Right Cemetery, Co. Rd. 15, portions of Judson, Serpell & Ward Sts., Belington, 08000393

Kanawha County

Elk City Historic District, Portions of Bigley Ave., Jarrett Ct., Lee St., Maryland, Ohio & Pennsylvania Aves. & W. Washington St., Charleston, 08000392

A request to MOVE has been made for the following resource:

SOUTH DAKOTA

Madison, Pap, Cabin, 222 New York St., Rapid City, 08000054

[FR Doc. E8-8094 Filed 4-15-08; 8:45 am]

BILLING CODE 4312-51-P